EXPORT-IMPORT BANK

Sunshine Act Meetings

Notice of an Open Meeting of the Board of Directors of the Export-Import Bank of the United States.

TIME AND DATE: Thursday, January 25, 2024, at 10:30 a.m.

PLACE: The meeting will be held via teleconference.

STATUS: The meeting will be open to public observation.

MATTERS TO BE CONSIDERED:

1. Amendment of the Standard Operating Procedures Between EXIM and PEFCO

CONTACT PERSON FOR MORE INFORMATION: Dana Jackson (202-329-2052; dana.jackson@exim.gov). Members of the public who wish to attend the meeting may do so via teleconference and must register using the link below by noon Wednesday January 24, 2024. After completing the registration, individuals will receive a confirmation email containing information about joining the webinar.

https://teams.microsoft.com/registration/PAFTuZHHMk2Zb1GDkIVFJw,qIj2KyO1UUm41WL18xw5VQ,jAoyB5Oho0CcCZLOc-dxhQ,s3XCRslm9U-__KVPi_WOjw,Gw-O3ZHuyUK9_4f7BRBQ9w,SxnJJMYLGE-UYc1-y7Dk0g?mode=read&tenantId=b953013c-c791-4d32-996f-518390854527.

Dated: January 19, 2024.
Kalesha Malloy,
IT Specialist.

[FR Doc. 2024-01318 Filed 1-19-24; 11:15 am]

BILLING CODE 6690-01-P